SECURITIES AND EXCHANGE COMMISSION

[File No. 500-1]

AR Associates, Inc. d/b/a Greenwave, Inc.; Order of Suspension of Trading

March 31, 2003.

It appears to the Securities and Exchange Commission that there is a lack of current and accurate information concerning the securities of AR Associates, Inc. d/b/a GreenWave, Inc. (“ARAI”), a company with its principal place of business in Calgary, Alberta, Canada. Questions have been raised about the adequacy and accuracy of publicly disseminated information concerning, among other things, the identity of the persons in control of the common stock issued by ARAI.

The Commission is of the opinion that the public interest and the protection of investors require a suspension of trading in the securities of ARAI.

Therefore, it is ordered, pursuant to section 12(k) of the Securities Exchange Act of 1934, that trading in the securities of AR Associates, Inc. is suspended for the period from 9:30 a.m. EST, March 31, 2003, through 11:59 p.m. April 11, 2003.

By the Commission.
Margaret H. McFarland,
Deputy Secretary.

[FR Doc. 03-8107 Filed 3-31-03; 2:06 pm]

BILLING CODE 8010-01-P